DEPARTMENT OF COMMERCE

International Trade Administration

A-588-835

Oil Country Tubular Goods from Japan: Final Results and Partial Rescission of Antidumping Duty Administrative Review

AGENCY: Import Administration, International Trade Administration, U.S. Department of Commerce.

SUMMARY: On September 7, 2005, the Department of Commerce (the Department) published in the Federal Register the preliminary results and preliminary partial rescission of the administrative review of the antidumping duty order on Oil Country Tubular Goods (OCTG) from Japan. This review covers four manufactures/exporters: JFE Steel Corporation (JFE), Nippon Steel Corporation (Nippon), NKK Tubes (NKK) and Sumitomo Metal Industries, Ltd. (SMI). The period of review (POR) covers sales of subject merchandise to the United States during the period of August 1, 2003, through July 31, 2004.

We provided interested parties with an opportunity to comment on the preliminary results of review. However, we received no comments from interested parties. Consequently, no changes have been made to the dumping margins set forth in the preliminary results of this administrative review. For the margins applicable to each respondent, see the “Final Results of Review” section of this notice.

EFFECTIVE DATE: January 3, 2006.

FOR FURTHER INFORMATION CONTACT: Mark Hoadley or Kimberley Hunt, AD/CVD Operations office 6, Import Administration, International Trade Administration, U.S. Department of Commerce, 14th Street and Constitution Avenue, NW, Washington, DC 20230; telephone: (202) 482-3148 or (202) 482-1272, respectively.

SUPPLEMENTARY INFORMATION: On September 7, 2005, the Department published in the Federal Register the preliminary results and preliminary partial rescission of the administrative review of the antidumping duty order on OCTG from Japan. See Oil Country Tubular Goods from Japan: Preliminary Results of Antidumping Duty Administrative Review and Partial Rescission of Review, 70 FR 53161 (September 7, 2005) (Preliminary Results). No interested parties filed case briefs in response to the Department's invitation to comment on the Preliminary Results.

SCOPE OF THE ORDER

The merchandise covered by this order consists of oil country tubular goods, hollow steel products of circular cross-section, including oil well casing, tubing, and drill pipe, of iron (other than cast iron) or steel (both carbon and alloy), whether seamless or welded, whether or not conforming to American Petroleum Institute (API) or non-API specifications, whether finished or unfinished (including green tubes and limited service OCTG products). This scope does not cover casing, tubing, or drill pipe containing 10.5 percent or more of chromium. The products subject to this order are currently classified in the Harmonized Tariff Schedule of the United States (HTSUS) under item numbers: 7304.21.30.00, 7304.21.60.30, 7304.21.60.45, 7304.21.60.60, 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. Although the HTSUS subheadings are provided for convenience and customs purposes, our written description of the scope of this order is dispositive.

FINAL RESULTS OF REVIEW

As stated in the Preliminary Results, the Department confirmed that neither NKK nor SMI made sales of subject merchandise during the POR. Additionally, neither JFE nor Nippon participated in this review. We did not receive comments on either our preliminary decision to rescind the review with respect to NKK and SMI, nor on our decision to apply an adverse facts available (AFA) rate to JFE and Nippon.¹ Accordingly, we do not have any reason to reconsider our preliminary decision. Therefore, consistent with the Department's preliminary results of this review, and in accordance with 19 CFR § 351.213(d)(3), we are rescinding the instant review with respect to both NKK and SMI and have made no changes to the weighted-average dumping margins applied to JFE and Nippon in the preliminary results of this administrative review.

¹ As AFA, we applied the highest rate from the investigation, 44.20 percent, which is also the only rate determined in the investigation. See Notice of Amended Final Determination of Sales at Less Than Fair Value and Antidumping Duty Order: Oil Country Tubular Goods from Japan, 60 FR 155 (August 11, 1995) (Amended Final Determination).

We determine that the following dumping margins exist for the period August 1, 2003, through July 31, 2004:

Manufacturer/Exporter | Margin (percent)
JFE Steel Corporation | 44.20
Nippon Steel Corporation | 44.20

DUTY ASSESSMENT

The Department will determine, and U.S. Customs and Border Protection (CBP) shall assess, antidumping duties on all appropriate entries, pursuant to 19 CFR § 351.212(b). We will direct CBP to assess the dumping rate listed above against all subject merchandise manufactured or exported by JFE or Nippon, and entered or withdrawn from warehouse for consumption during the POR. For all subject merchandise manufactured by either NKK or SMI that was entered or withdrawn from warehouse for consumption during the POR, we will direct CBP to liquidate at the “all others” rate, 44.20 percent, as all such sales were made by intermediary companies (e.g., resellers) not covered in this review, a prior review, or the less than fair value (LTFV) investigation. See Antidumping and Countervailing Duty Proceedings: Assessment of Antidumping Duties, 68 FR 23954 (May 6, 2003). The Department will issue appropriate assessment instructions directly to CBP within 15 days of publication of these final results of review.

CASH DEPOSIT REQUIREMENTS

The following cash deposit rates will be effective with respect to all shipments of OCTG from Japan entered, or withdrawn from warehouse, for consumption on or after the publication date of these final results, as provided for by section 751(a)(1) of the Act: (1) for JFE and Nippon, the cash deposit rate shall be 44.20 percent (the AFA rate from the investigation); (2) for previously reviewed or investigated companies not listed above, including NKK and SMI, the cash deposit rate will continue to be the company-specific rate established for the most recent period; (3) if the exporter is not a firm covered in this review, a prior review, or the LTFV investigation, but the manufacturer is, the cash deposit rate will continue to be the rate established for the most recent period for the manufacturer of the subject merchandise; and (4) if neither the exporter nor the manufacturer is a firm covered by this review, a prior review, or the LTFV investigation, the cash deposit rate shall be the “all others” rate established in the LTFV investigation, which is 44.20 percent. See Amended Final Determination. These deposit rates, when imposed, shall remain in effect until publication of the final results of the next administrative review.

NOTIFICATION TO IMPORTERS

This notice serves as a final reminder to importers of their responsibility under 19 CFR § 351.402(f) to file a certificate regarding the reimbursement of antidumping duties prior to liquidation of the relevant entries during this review period. Failure to comply with this requirement could result in the Secretary's presumption that reimbursement of antidumping duties occurred and the subsequent assessment of double antidumping duties.

ADMINISTRATIVE PROTECTIVE ORDERS

This notice also serves as a reminder to parties subject to administrative protective orders (APOs) of their responsibility concerning the return or destruction of proprietary information disclosed under APO in accordance with 19 CFR § 351.305. Timely written notification of the return/destruction of APO materials or conversion to judicial protective order is hereby requested. Failure to comply with the regulations and terms of an APO is a violation that is subject to sanction.

This administrative review and notice are issued and published in accordance with sections 751(a)(1) and 777(i)(1) of the Act.

Dated: December 23, 2005.
Stephen J. Claeys,
Acting Assistant Secretary for Import Administration.

[FR Doc. E5-8215 Filed 12-30-05; 8:45 am]

BILLING CODE 3510-DS-S